Title 3—

The President

Proclamation 7656 of March 26, 2003

National Child Abuse Prevention Month, 2003

By the President of the United States of America

A Proclamation

Our Nation has an important responsibility to create a caring environment in which our children can flourish and reach their full potential. As we observe the 20th anniversary of National Child Abuse Prevention Month, we recognize the significant progress we have made to increase the safety and security of our children. We also renew our commitment to protecting our most vulnerable citizens from harm. Child abuse and neglect are national tragedies, and we must work together to eradicate them.

Every day, thousands of children are mistreated by their parents, guardians, relatives, or caregivers. On average, three children a day die as a result of abuse and neglect, and countless others remain silent, their pain unnoticed and unreported. These children face challenges that no child deserves, and young people who have experienced abuse may grow into adults who are self-destructive and damaging to our communities. To help these children become healthy and happy adults, parents and caregivers must provide them with love, security, emotional support, and a strong connection to their extended families and communities.

To help ensure the safety and well-being of our children, my Administration is committed to supporting and strengthening families. In the last year, we have worked with faith-based and community organizations to promote healthy marriages, responsible fatherhood, and partnerships that seek to prevent child abuse and neglect. We also worked with the Congress to reauthorize the Promoting Safe and Stable Families program. This year, we are asking the Congress to fully fund this program at $505 million, an increase of more than 65 percent. In addition, we are working with the Congress to reauthorize the Child Abuse Prevention and Treatment Act. This important legislation will provide funding to States for child abuse prevention activities and other vital programs.

Every child is a blessing. Through the cooperation of Federal, State, and local governments, faith-based and community organizations, schools, law enforcement, and health and human service agencies, we can develop and enhance successful prevention strategies that protect our young people. In addition, we must continue to recognize the spirit of compassion in individuals and community groups across our Nation that offer care, guidance, and support for young people, parents, and caregivers. By working together, we can put hope in our children's hearts and ensure healthy and safe lives for all our children.

NOW, THEREFORE, I, GEORGE W. BUSH, President of the United States of America, by virtue of the authority vested in me by the Constitution and laws of the United States, do hereby proclaim April 2003 as National Child Abuse Prevention Month. I encourage all Americans to join together to support strong families, protect our children from abuse, neglect, and maltreatment, and make our Nation a more promising place for all.

IN WITNESS WHEREOF, I have hereunto set my hand this twenty-sixth day of March, in the year of our Lord two thousand three, and of the Independence of the United States of America the two hundred and twenty-seventh.

B

[FR Doc. 03-7879

Filed 3-28-03; 8:47 am]

Billing code 3195-01-P